DEPARTMENT OF DEFENSE

Office of the Secretary

[DOD-2006-OS-0220]

32 CFR Part 367

Assistant Secretary of Defense for Health Affairs

AGENCY: Department of Defense.

ACTION: Final rule.

SUMMARY: This document removes part 367, “Assistant Secretary of Defense for Health Affairs” presently in Title 32 of the Code of Federal Regulations. This part was canceled by DoD Directive 5144.1, “Assistant Secretary of Defense for Networks and Information Integration/Dod Chief Information Officer (ASD(NII)/DOD CIO)”.

DATES: Effective Date: December 22, 2006.

FOR FURTHER INFORMATION CONTACT: L. Bynum, 703-696-2970.

SUPPLEMENTARY INFORMATION: This part 367 is removed to as a part of a DoD exercise to remove CFR parts no longer required to be codified. DoD Directive 5144.1 may be obtained from http://www.dtic.mil/whs/directives/corres/dir2.html.

List of Subjects in 32 CFR Part 367

Organization and functions (Government agencies).

PART 367—[REMOVED]

Accordingly, by the authority of 10 U.S.C. 301, 32 CFR part 367 is removed.

Dated: December 15, 2006.
L.M. Bynum,
Alternate OSD Federal Register Liaison Officer, Department of Defense.

[FR Doc. 06-9823 Filed 12-21-06; 8:45 am]

BILLING CODE 5001-06-M